SELECTIVE SERVICE SYSTEM

32 CFR Part 1698

Change of Agency Address To Request an Advisory Opinion

AGENCY: Selective Service System.

ACTION: Final rule; technical amendment.

SUMMARY: This technical amendment to the rule on advisory opinions changes the Selective Service System (SSS) address for persons to request an advisory opinion regarding the liability or obligation to register under the Military Selective Service Act. The present address listed in the Code of Federal Regulations to request advisory opinions is outdated due to a change of location for the Agency's headquarters and its Data Management Center.

DATES: Effective September 5, 2000.

FOR FURTHER INFORMATION CONTACT: Rudy Sanchez, Office of the General Counsel, Selective Service System, 1515 Wilson Boulevard, Arlington, VA 22209-2425. (703-605-4071).

SUPPLEMENTARY INFORMATION: The SSS considers this rule (32 CFR part 1698) to be a procedural rule which is exempt from the notice-and-comment under 5 U.S.C. 533(b)(3)(A). This rule is not a significant rule for the purpose of Executive Order 12866 and has not been reviewed by the Office of Management and Budget. As required by the Regulatory Flexibility Act, SSS certifies that these regulatory amendments will not have a significant impact on small business entities.

Lists of Subjects in 32 CFR Part 1698

Administrative practice and procedure, Selective Service System.

For the reason set forth in the preamble, amend part 1698 of title 32 of the Code of Federal Regulations as follows:

PART 1698—ADVISORY OPINIONS

1. The authority citation for part 1698 continues to read as follows:

Authority: Military Selective Service Act, 50 U.S.C. 451 et seq.; E.O. 11623.

§ 1698.2 [Amended]

2. In § 1698.2(b), revise “ATTN: GCAO, Washington, DC 20435” to read “ATTN: SIL, P.O. Box 94638, Palatine, IL 60094-4638”.

Dated: July 28, 2000.
Gil Coronado,
Director.

[FR Doc. 00-19515 Filed 8-2-00; 8:45 am]

BILLING CODE 8015-01-P